DEPARTMENT OF LABOR

Employment and Training Administration

[TA-W-60,771A]

Burlington House Pioneer Plant, Burlington House Division, a Subsidiary of International Textile Group Currently Known as Burlington Manufacturing Services, Burlington, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on February 9, 2007, applicable to workers of Burlington House Pioneer Plant, Burlington House Division, a subsidiary of International Textile Group, Burlington, North Carolina. The notice was published in the Federal Register on February 21, 2007 (72 FR 7908).

At the request of a company official, the Department reviewed the certification for workers of the subject firm. The workers are engaged in the production of dyed yarn and warps for ticking.

New information shows that due to a change in ownership on May 1, 2007, Burlington House Pioneer Plant, Burlington House Division, a subsidiary of International Textile Group is currently known as Burlington Manufacturing Services.

Workers separated from employment at the subject firm had their wages reported under a separate unemployment insurance (UI) tax account for Burlington Manufacturing Services.

Accordingly, the Department is amending this certification to properly reflect this matter.

The intent of the Department's certification is to include all workers of Burlington House Pioneer Plant, Burlington House Division, a subsidiary of International Textile Group, currently known as Burlington Manufacturing Services who were adversely affected by increased company imports.

The amended notice applicable to TA-W-60,771A is hereby issued as follows:

All workers of Burlington House Pioneer Plant, Burlington House Division, a subsidiary of International Textile Group, currently known as Burlington Manufacturing Services, Burlington, North Carolina, who became totally or partially separated from employment on or after December 23, 2006, through February 9, 2009, are eligible to apply for adjustment assistance under Section 223 of the Trade Act of 1974, and are also eligible to apply for alternative trade adjustment assistance under Section 246 of the Trade Act of 1974.

Signed at Washington, DC this 19th day of July 2007.
Elliott S. Kushner,
Certifying Officer, Division of Trade Adjustment Assistance.

[FR Doc. E7-14417 Filed 7-25-07; 8:45 am]

BILLING CODE 4510-FN-P